ENVIRONMENTAL PROTECTION AGENCY

[FRL-7098-5]

Agency Information Collection Activities: Submission for OMB Review; Comment Request; General Conformity of Federal Actions to State Implementation Plans

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: General Conformity of Federal Actions to State Implementation Plans, ICR number 1637.05, and OMB Control Number 2060-0279, expiration date December 31, 2001. The ICR describes the nature of the information collection and its expected burden and cost; where appropriate, it includes the actual data collection instrument.

DATES: Comments must be submitted on or before December 6, 2001.

ADDRESSES: Send comments, referencing EPA ICR No. 1637.05 and OMB Control No. 2060-0279, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at auby.susan@epamail.epa.gov or download off the Internet at http://www.epa.gov/icr and refer to EPA ICR No. 1637.05. For technical questions about the ICR contact: Annie Nikbakht, Ozone Policy and Strategies Group, Air Quality Strategies and Standards Division, MD-15, Environmental Protection Agency, Research Triangle Park, NC 27711, telephone (919) 541-5246.

SUPPLEMENTARY INFORMATION: Title: General Conformity of Federal Actions to State Implementation Plans, OMB Control Number 2060-0279, EPA ICR Number 1637.05, expiration date December 31, 2001. This is a request for extension of a currently approved collection.

Abstract

Before any agency, department, or instrumentality of the Federal government engages in, supports in any way, provides financial assistance for, licenses, permits, approves any activity, that agency has the affirmative responsibility to ensure that such action conforms to the State implementation plan (SIP) for the attainment and maintenance of the national ambient air quality standards (NAAQS). The EPA's implementing regulations require Federal entities to make a conformity determination for all actions which impact areas designated as nonattainment or maintenance for the NAAQS and which will result in total direct and indirect emissions in excess of de minimis levels. The Federal entities must collect information on the SIP requirements and the pollution sources to make the conformity determination. Depending on the type of action, the Federal entities either collect the information themselves, hire consultants to collect the information or require applicants/sponsors of the Federal action to provide the information.

The type and quantity of information required will depend on the circumstances surrounding the action. First, the entity must make an applicability determination. If the net total direct and indirect emissions do not exceed de minimis levels established in the regulations or if the action meets certain criteria for an exemption, a conformity determination is not required. Actions requiring conformity determinations vary from straightforward, requiring minimal information, to complex, requiring significant amounts of information. The Federal entity must determine the type and quantity of information on a case-by-case basis. State and local air pollution control agencies are usually requested to provide information to the Federal entities making a conformity determination and are provided opportunities to comment on the proposed determinations. The public is also provided an opportunity to comment on the proposed determinations.

An agency may not conduct or sponsor, and a person is not required to respond to, a collection of information unless it displays a currently valid OMB control number. The OMB control numbers for EPA's regulations are listed in 40 CFR part 9 and 48 CFR Chapter 15. Section 176(c) of the Clean Air Act (42 U.S.C. 7401 et seq.) requires that all Federal actions conform with the SIPs to attain and maintain the NAAQS. The Federal Register document required under 5 CFR 1320.8(d), soliciting comments on this collection of information was published on April 27, 2001 (66 FR 21136); Two comment letters were received.

Burden Statement: The annual public reporting and record keeping burden for this collection of information is estimated to average 15-20 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Non-Federal-( Private Industry, State and Local Government).

Estimated Number of Respondents: Estimate 733 Total Actions/Determinations.

Frequency of Response: Estimate Non-Federal perform approximately 733 straightforward & complex determinations per year (Note: only number of annual hours were given in comment letter, number and type of determinations not indicated; therefore, this number is subject to change if other detailed information becomes available).

Estimated Total Annual Hour Burden: 10,246.

Estimated Total Annualized Capital, O&M Cost Burden: None.

Send comments on the Agency's need for this information, the accuracy of the provided burden estimates, and any suggested methods for minimizing respondent burden, including through the use of automated collection techniques to the addresses listed above. Please refer to EPA ICR No. 1637.05 and OMB Control No. 2060-0279 in any correspondence.

Dated: October 29, 2001.
Oscar Morales,
Director, Collection Strategies Division.

[FR Doc. 01-27838 Filed 11-5-01; 8:45 am]

BILLING CODE 6560-50-P